THE NATIONAL FOUNDATION ON THE ARTS AND THE HUMANITIES

Meetings of Humanities Panel

AGENCY: The National Endowment for the Humanities.

ACTION: Notice of meetings.

SUMMARY: Pursuant to the provisions of the Federal Advisory Committee Act (Pub. L. 92-463, as amended), notice is hereby given that the following meetings of Humanities Panels will be held at the Old Post Office, 1100 Pennsylvania Avenue, NW., Washington, DC 20506.

FOR FURTHER INFORMATION CONTACT: Michael P. McDonald, Advisory Committee Management Officer, National Endowment for the Humanities, Washington, DC 20506; telephone (202) 606-8322. Hearing-impaired individuals are advised that information on this matter may be obtained by contacting the Endowment's TDD terminal on (202) 606-8282.

SUPPLEMENTARY INFORMATION: The proposed meetings are for the purpose of panel review, discussion, evaluation and recommendation on applications for financial assistance under the National Foundation on the Arts and the Humanities Act of 1965, as amended, including discussion of information given in confidence to the agency by the grant applicants. Because the proposed meetings will consider information that is likely to disclose trade secrets and commercial or financial information obtained from a person and privileged or confidential and/or information of a personal nature the disclosure of which would constitute a clearly unwarranted invasion of personal privacy, pursuant to authority granted me by the Chairman's Delegation of Authority to Close Advisory Committee meetings, dated July 19, 1993, I have determined that these meetings will be closed to the public pursuant to subsections (c)(4), and (6) of section 552b of Title 5, United States Code.

1. Date: March 1, 2011.

Time: 8:30 a.m. to 5 p.m.

Location: Room 315.

Program: This meeting will review applications for Archaeology II in Collaborative Research, submitted to the Division of Research Programs at the October 28, 2010 deadline.

2. Date: March 7, 2011.

Time: 8:30 a.m. to 5 p.m.

Location: Room 315.

Program: This meeting will review applications for Latin American Studies in Collaborative Research, submitted to the Division of Research Programs at the October 28, 2010 deadline.

3. Date: March 7, 2011.

Time: 9 a.m. to 5 p.m.

Location: Room 421.

Program: This meeting will review applications for Europe in Bridging Cultures through Film Grants Program, submitted to the Division of Public Programs at the January 5, 2011 deadline.

4. Date: March 8, 2011.

Time: 9 a.m. to 5 p.m.

Location: Room 421.

Program: This meeting will review applications for Africa and the Middle East in Bridging Cultures through Film Grants Program, submitted to the Division of Public Programs at the January 5, 2011 deadline.

5. Date: March 8, 2011.

Time: 8:30 a.m. to 5 p.m.

Location: Room 315.

Program: This meeting will review applications for Literature and the Arts in Collaborative Research, submitted to the Division of Research Programs at the October 28, 2010 deadline.

6. Date: March 9, 2011.

Time: 8:30 a.m. to 5 p.m.

Location: Room 315.

Program: This meeting will review applications for Philosophy, Religion, and History of Science in Collaborative Research, submitted to the Division of Research Programs at the October 28, 2010 deadline.

7. Date: March 10, 2011.

Time: 8:30 a.m. to 5 p.m.

Location: Room 315.

Program: This meeting will review applications for American Studies in Collaborative Research, submitted to the Division of Research Programs at the October 28, 2010 deadline.

8. Date: March 10, 2011.

Time: 9 a.m. to 5 p.m.

Location: Room 421.

Program: This meeting will review applications for Asia in Bridging Cultures through Film Grants Program, submitted to the Division of Public Programs at the January 5, 2011 deadline.

9. Date: March 11, 2011.

Time: 9 a.m. to 5 p.m.

Location: Room 421.

Program: This meeting will review applications for the Americas in Bridging Cultures through Film Grants Program, submitted to the Division of Public Programs at the January 5, 2011 deadline.

10. Date: March 14, 2011.

Time: 8:30 a.m. to 5 p.m.

Location: Room 315.

Program: This meeting will review applications for Philosophy and Religion in Scholarly Editions, submitted to the Division of Research Programs at the October 28, 2010 deadline.

11. Date: March 15, 2011.

Time: 9 a.m. to 5 p.m.

Location: Room 415.

Program: This meeting will review applications for Sustaining Cultural Heritage Collections I in Sustaining Cultural Heritage Collections, submitted to the Division of Preservation and Access at the December 1, 2010 deadline.

12. Date: March 15, 2011.

Time: 8:30 a.m. to 5 p.m.

Location: Room 315.

Program: This meeting will review applications for Archaeology I in Collaborative Research, submitted to the Division of Research Programs at the October 28, 2010 deadline.

13. Date: March 16, 2011.

Time: 8:30 a.m. to 5 p.m.

Location: Room 315.

Program: This meeting will review applications for Anthropology, Sociology, and History in Collaborative Research, submitted to the Division of Research Programs at the October 28, 2010 deadline.

14. Date: March 17, 2011.

Time: 8:30 a.m. to 5 p.m.

Location: Room 315.

Program: This meeting will review applications for American and European History in Scholarly Editions, submitted to the Division of Research Programs at the October 28, 2010 deadline.

15. Date: March 22, 2011.

Time: 9 a.m. to 5 p.m.

Location: Room 415.

Program: This meeting will review applications for Sustaining Cultural Heritage Collections II in Sustaining Cultural Heritage Collections, submitted to the Division of Preservation and Access at the December 1, 2010 deadline.

16. Date: March 24, 2011.

Time: 9 a.m. to 5 p.m.

Location: Room 415.

Program: This meeting will review applications for Sustaining Cultural Heritage Collections III in Sustaining Cultural Heritage Collections, submitted to the Division of Preservation and Access at the December 1, 2010 deadline.

17. Date: March 28, 2011.

Time: 9 a.m. to 5 p.m.

Location: Room 421.

Program: This meeting will review applications for United States History in America's Media Makers Grants Program, submitted to the Division of Public Programs at the January 12, 2011 deadline.

18. Date: March 29, 2011.

Time: 9 a.m. to 5 p.m.

Location: Room 421.

Program: This meeting will review applications for Anthropology and the West in America's Historical and Cultural Organizations Grants Program, submitted to the Division of Public Programs at the January 12, 2011 deadline.

19. Date: March 29-30, 2011.

Time: 9 a.m. to 5 p.m.

Location: Room 415.

Program: This meeting will review applications for DFG/NEH FY 11 Joint Sitting Panel in DFG/NEH Bilateral Digital Humanities Program, submitted to the Office of Digital Humanities at the November 16, 2010 deadline.

20. Date: March 31, 2011.

Time: 9 a.m. to 5 p.m.

Location: Room 415.

Program: This meeting will review applications for Sustaining Cultural Heritage Collections IV in Sustaining Cultural Heritage Collections, submitted to the Division of Preservation and Access at the December 1, 2010 deadline.

21. Date: March 31, 2011.

Time: 9 a.m. to 5 p.m.

Location: Room 421.

Program: This meeting will review applications for World Cultures in America's Media Makers Grants Program, submitted to the Division of Public Programs at the January 12, 2011 deadline.

Michael P. McDonald,
Advisory Committee Management Officer.

[FR Doc. 2011-3627 Filed 2-16-11; 8:45 am]

BILLING CODE 7536-01-P